DEPARTMENT OF THE INTERIOR

Bureau of Land Management

[LLNMP02000 L51100000.GE0000.LVEMG14CG200 14XL5017AR]

Notice of Availability of the Final Environmental Impact Statement for the Ochoa Mine Project in Lea County, NM

AGENCY: Bureau of Land Management, Interior.

ACTION: Notice of availability.

SUMMARY: In accordance with the National Environmental Policy Act (NEPA) of 1969, as amended, and the Federal Land Policy and Management Act of 1976, as amended, the Bureau of Land Management (BLM) has prepared a Final Environmental Impact Statement (EIS) for the Ochoa Mine Project and by this notice is announcing its availability.

DATES: The BLM will not issue a final decision on the proposal for a minimum of 30 days from the date that the Environmental Protection Agency publishes its own notice of availability in the Federal Register.

ADDRESSES: Copies of the Ochoa Mine Project Final EIS are available for public inspection at the Carlsbad Field Office, 620 E Greene Street, Carlsbad, NM 88220. Interested persons may also review the Final EIS on the Web site at: www.nm.blm.gov/cfo/ochoaMine/.

FOR FURTHER INFORMATION CONTACT: David Herrell or Shiva Achet, project co-leads, telephone 575-234-2229 (David) or 575-234-5924 (Shiva); address BLM Carlsbad Field Office, 620 East Greene Street, Carlsbad, NM 88220; email blm_nm_cfo_comments@blm.gov. Persons who use a telecommunications device for the deaf (TDD) may call the Federal Information Relay Service (FIRS) at: 1-800-877-8339 to contact the above individual during normal business hours. The FIRS is available 24 hours a day, 7 days a week, to leave a message or question with the above individual. You will receive a reply during normal business hours.

SUPPLEMENTARY INFORMATION: Intercontinental Potash Corporation (ICP) is proposing to develop a new underground mine in southern Lea County, New Mexico, to extract polyhalite ore for the production of the sulfate of potash and sulfate of potash magnesia, potassium fertilizers for food production. The project area includes Federal, State, and private lands totaling 31,134 acres, of which 2,400 acres would be disturbed. The surface landownership consists of about 22 percent public lands managed by the BLM, 53 percent owned by the State of New Mexico, and 25 percent privately owned. About 55 percent of the minerals within the proposed mine area is owned by the Federal Government.

ICP holds BLM prospecting permits and has applied for preference right leases. These prospecting permits are located about 40 miles southeast of Carlsbad and 20 miles west of Jal, in Lea County, New Mexico. ICP has proposed a Mine Plan of Operations that includes an underground mine accessed by a shaft and a ramp, and processing facilities, including the ore process plant, dry stack tailings pile, evaporation ponds, water wells, pipelines, power lines, and a railroad load out facility. The polyhalite will be continuously mined using the conventional room and pillar retreat method. In order to mine in proximity to active oil and gas wells, ICP has elected to follow the rules and regulations of a Category IV gassy mine. Processing would require pumping a maximum of 4,000 gallons per minute of groundwater from the Capitan Reef Aquifer.

The BLM initiated the NEPA process for the project by publication of a Notice of Intent to prepare an EIS on January 3, 2012 (77 FR 130). Public scoping meetings were conducted on January 23-24, 2012. Major issues identified for this project include oil and gas, water resources, land use, socioeconomic impacts, air quality, wildlife, livestock grazing, and health and safety. A scoping report was compiled and published on March 27, 2012.

Alternatives developed in the Draft EIS include the proposed action (Alternative A), which would include approval of ICP's Mine Plan of Operations, granting new rights-of-way, and approval of preference right leases to allow the mining and processing of polyhalite ore for the production of the sulphate of potash and sulphate of potash magnesia. In addition, three action alternatives were analyzed in the Draft EIS. Alternative B is identical to Alternative A except that the visual impacts of the tailing stockpile would be reduced. Alternative C is identical to Alternative A except that standards and guidance would be established for managing concurrent development of fluid minerals. Alternative D is similar to Alternative A, except that the location of the evaporation ponds and tailings stockpile would be at a different location. A no action alternative was also analyzed, in which the proposed mine plan of operations, rights-of-way, and preference right leases would be denied.

The Draft EIS was published on August 9, 2013, starting a 45-day public comment period. Three public scoping meetings were held in Carlsbad, New Mexico, on August 26, 2013, and in Hobbs and Jal, New Mexico, on August 27, 2013. Briefings were also held for the City of Eunice, New Mexico, and a cooperating agency. Twenty-nine written comment letters consisting of 490 comments were received and analyzed. Comments on the Draft EIS received from the public and internal BLM review were considered and incorporated as appropriate into the Final EIS. The Final EIS Preferred Alternative consists of a mixture of what the BLM considers the best features of Alternatives A, B, and C, as well as some new aspects incorporated in response to public comments and BLM concerns. The Preferred Alternative is similar to the proposed action (Alternative A), as it incorporates the same proposed mine area, mining methods, facilities, and processing methods. Additionally, water demands, well field and water pipelines, and layout facilities remain the same as the proposed action. The Preferred Alternative differs from the proposed action as it requires additional monitoring of water resources, includes subsidence, dust, and reclamation requirements, a smaller tailings stockpile, a more formalized co-development coordination program with stakeholders, and a dispute resolution process.

Authority: 40 CFR 1506.6, 40 CFR 1506.10.

Aden L. Seidlitz,
Associate State Director.

[FR Doc. 2014-04257 Filed 2-27-14; 8:45 am]

BILLING CODE 4310-FB-P